DEPARTMENT OF COMMERCE

International Trade Administration

A-489-807

Certain Steel Concrete Reinforcing Bars From Turkey; Final Results of Antidumping Duty Administrative Review and New Shipper Review and Determination To Revoke in Part

AGENCY: Import Administration, International Trade Administration, Department of Commerce.

SUMMARY: On May 4, 2007, the Department of Commerce (the Department) published the preliminary results of the administrative review and new shipper review of the antidumping duty order on certain steel concrete reinforcing bars (rebar) from Turkey. These reviews cover six producers/exporters of the subject merchandise to the United States. The period of review (POR) is April 1, 2005, through March 31, 2006.

Based on our analysis of the comments received, we have made certain changes in the margin calculations. Therefore, the final results differ from the preliminary results. The final weighted-average dumping margins for the reviewed firms are listed below in the section entitled “Final Results of Review.”

Finally, we have determined to revoke the antidumping duty order with respect to Turkish rebar produced and exported by Colakoglu Metalurji A.S. and Colakoglu Dis Ticaret A.S. (collectively “Colakoglu”) and Diler Demir Celik Endustrisi ve Ticaret A.S., Yazici Demir Celik Sanayi ve Turizm Ticaret A.S., and Diler Dis Ticaret A.S. (collectively “Diler”).

EFFECTIVE DATE: November 6, 2007.

FOR FURTHER INFORMATION CONTACT: Irina Itkin, AD/CVD Operations, Office 2, Import Administration, International Trade Administration, U.S. Department of Commerce, 14th Street and Constitution Avenue, NW, Washington, DC, 20230; telephone (202) 482-0656.

SUPPLEMENTARY INFORMATION:

Background

The administrative review covers the following five producers/exporters: Colakoglu; Diler; Ekinciler Demir ve Celik Sanayi A.S. and Ekinciler Dis Ticaret A.S. (collectively “Ekinciler”); Habas Sinai ve Tibbi Gazlar Istihsal Endustrisi A.S. (Habas); and Kaptan Metal Dis Ticaret ve Nakliyat A.S. and Kaptan Demir Celik Endustrisi ve Ticaret A.S. (collectively “Kaptan”). The new shipper review covers one producer/exporter, Kroman Celik Sanayii A.S. and Yucelboru Ihracat Ithalat ve Pazarlama A.S. (collectively “Kroman”).

On May 4, 2007, the Department published in the Federal Register the preliminary results of the administrative review and new shipper review of the antidumping duty order on rebar from Turkey. See Certain Steel Concrete Reinforcing Bars from Turkey; Preliminary Results of Antidumping Duty Administrative Review and New Shipper Review and Notice of Intent to Revoke in Part, 72 FR 25253 (May 4, 2007) (Preliminary Results).

In August 2007, based on the information on the record, we preliminarily found that there is no evidence that the respondents in these reviews engaged in anti-competitive practices in Turkey during the POR, as alleged by the domestic industry (i.e., Gerdau AmeriSteel Corporation, Commercial Metals Company (SMI Steel Group), and Nucor Corporation). For further discussion, see the August 31, 2007, Memorandum from James Maeder, Shawn Thompson, Irina Itkin, and Brianne Riker to David M. Spooner, entitled “Preliminary Finding on Issues Related to the Turkish Government Competition Board's Reports in Certain Steel Concrete Reinforcing Bars from Turkey” (the Competition Board memo). See also the “Turkish Government Competition Board's Report” section of this notice, below.

We invited parties to comment on our preliminary results of these reviews, as well as on the preliminary findings set forth in the Competition Board memo. In August 2007, we received case briefs with respect to the preliminary results from the domestic industry and four of the six respondents (i.e., Colakoglu, Ekinciler, Habas, and Kaptan), and we received rebuttal briefs with respect to the preliminary results from all parties participating in these administrative reviews. In addition, in September 2007, we received case briefs with respect to the preliminary findings in the Competition Board memo from the domestic industry, and we received rebuttal briefs from all respondents.

The Department has conducted this administrative review in accordance with section 751 of the Tariff Act of 1930, as amended (the Act).

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 2005, through March 31, 2006.

Determination To Revoke Order, in Part

The Department may revoke, in whole or in part, an antidumping duty order upon completion of a review under section 751 of the Act. While Congress has not specified the procedures that the Department must follow in revoking an order, the Department has developed a procedure for revocation that is described in 19 CFR 351.222. This regulation requires, inter alia, that a company requesting revocation must submit the following: 1) A certification that the company has sold the subject merchandise at not less than normal value (NV) in the current review period and that the company will not sell subject merchandise at less than NV in the future; 2) a certification that the company sold commercial quantities of the subject merchandise to the United States in each of the three years forming the basis of the request; and 3) an agreement to immediate reinstatement of the order if the Department concludes that the company, subsequent to the revocation, sold subject merchandise at less than NV. See 19 CFR 351.222(e)(1). Upon receipt of such a request, the Department will consider: 1) whether the company in question has sold subject merchandise at not less than NV for a period of at least three consecutive years; 2) whether the company has agreed in writing to its immediate reinstatement in the order, as long as any exporter or producer is subject to the order, if the Department concludes that the company, subsequent to the revocation, sold the subject merchandise at less than NV; and 3) whether the continued application of the antidumping duty order is otherwise necessary to offset dumping. See 19 CFR 351.222(b)(2)(i). See Sebacic Acid From the People's Republic of China: Final Results of Antidumping Duty Administrative Review and Determination To Revoke Order in Part, 67 FR 69719, 69720 (Nov. 19, 2002).

We have determined that the requests from Colakoglu and Diler meet all of the criteria under 19 CFR 351.222. With regard to the criteria of subsection 19 CFR 351.222(b)(2), our final margin calculations show that Colakoglu and Diler sold rebar at not less than NV during the current review period. In addition, Colakoglu and Diler sold rebar at not less than NV in the two previous administrative reviews in which they were involved (i.e., their dumping margins were zero or de minimis). See Certain Steel Concrete Reinforcing Bars From Turkey; Final Results and Rescission of Antidumping Duty Administrative Review in Part, 71 FR 65082, 65084 (Nov. 7, 2006) and Certain Steel Concrete Reinforcing Bars From Turkey; Final Results, Rescission of Antidumping Duty Administrative Review in Part, and Determination To Revoke in Part, 70 FR 67665, 67667 (Nov. 8, 2005). Also, we find that application of the antidumping duty order to Colakoglu and Diler is no longer warranted for the following reasons: 1) the companies had zero or de minimis margins for a period of at least three consecutive years; 2) each company has agreed to immediate reinstatement of the order if the Department finds that it has resumed making sales at less than NV; and 3) the continued application of the order is not otherwise necessary to offset dumping. Therefore, we find that Colakoglu and Diler qualify for revocation of the antidumping duty order on rebar under 19 CFR 351.222(b)(2). Accordingly, we are revoking the order with respect to subject merchandise produced and exported by Colakoglu, as well as with respect to subject merchandise produced and exported by Diler. For further discussion, see the Issues and Decision Memorandum (Decision Memo) accompanying this notice at Comment 1.

Effective Date of Revocation

This revocation applies to all entries of subject merchandise that are produced and exported by Colakoglu and Diler, and are entered, or withdrawn from warehouse, for consumption on or after April 1, 2006. The Department will order the suspension of liquidation ended for all such entries and will instruct U.S. Customer and Border Protection (CBP) to release any cash deposits or bonds. The Department will further instruct CBP to refund with interest any cash deposits on entries made on or after April 1, 2006.

Bona Fide Sale Analysis

In the preliminary results, we found that Kroman's reported U.S. sale during the POR was a bona fide sale, as required by 19 CFR 351.214(b)(2)(iv)(c), based on the totality of the facts on the record. See the Memorandum to James Maeder from Irina Itkin entitled, “Analysis of Kroman Celik Sanayii A.S.'s Bona Fides As A New Shipper in the New Shipper Review of Certain Steel Concrete Reinforcing Bars from Turkey,” dated April 30, 2007, for further discussion of our price and quantity analysis.

For the final results, the Department continues to find that Kroman's sole U.S. sale during the POR was a bona fide commercial transaction.

Turkish Government Competition Board's Report

As noted in our preliminary findings with respect to the Competition Board's report, we did not rely on the evidence or conclusions in the Competition Board's report as the basis for any findings in these reviews. Rather, we investigated whether the facts during the POR would cause us to dismiss reported home market prices or costs within the confines of U.S. antidumping duty law and regulations. See the “Competition Board Memo.” For purposes of the final results, the domestic industry neither provided any new arguments with respect to the information on the record pertaining to the Competition Board's report or the respondents' reported costs, prices, and affiliations that were not already address in our preliminary findings, nor commented on specific sections of our preliminary findings with which it disagreed. Rather, we find that the domestic industry merely stated its opposition to our preliminary findings and reiterated its previous arguments. Therefore, we continue to find that: 1) there is no basis to find that the respondents are affiliated, and a collapsing analysis is neither warranted nor necessary; 2) there is no basis to conclude that the sales and cost data in these reviews are distorted by non-market considerations and, thus, it is appropriate to rely on this data for purposes of the final results; 3) Kroman is entitled to a new shipper review because it has met the requirements set forth under 19 CFR 351.214(b); and 4) the use of adverse facts available, pursuant to sections 776(a) and (b) of the Act, is not warranted for any of the respondents in the administrative review or new shipper review because the respondents provided all requested information and have cooperated fully in these segments of the proceeding. For further discussion, see the Decision Memo at Comment 1.

Cost of Production

As discussed in the Preliminary Results, we conducted an investigation to determine whether Colakoglu, Diler, Ekinciler, Habas, Kaptan, and Kroman made home market sales of the foreign like product during the POR at prices below their costs of production (COP) within the meaning of section 773(b)(1) of the Act. We performed the cost test for these final results following the same methodology as in the Preliminary Results, except as discussed in the Decision Memo.

We found 20 percent or more of each respondent's sales of a given product during the reporting period were at prices less than the weighted-average COP for this period. Thus, we determined that these below-cost sales were made in “substantial quantities” within an extended period of time and at prices which did not permit the recovery of all costs within a reasonable period of time in the normal course of trade. See sections 773(b)(2)(B) - (D) of the Act.

Therefore, for purposes of these final results, we found that Colakoglu, Diler, Ekinciler, Habas, Kaptan, and Kroman made below-cost sales not in the ordinary course of trade. Consequently, we disregarded these sales for each respondent and used the remaining sales as the basis for determining NV pursuant to section 773(b)(1) of the Act.

Analysis of Comments Received

All issues raised in the case briefs by parties to these reviews, and to which we have responded, are listed in the Appendix to this notice and addressed in the Decision Memo, which is adopted by this notice. Parties can find a complete discussion of all issues raised in these reviews and the corresponding recommendations in this public memorandum, which is on file in the Central Records Unit, room B-099, of the main Department building.

In addition, a complete version of the Decision Memo can be accessed directly on the Web at http://ia.ita.doc.gov/frn/. The paper copy and electronic version of the Decision Memo are identical in content.

Changes Since the Preliminary Results

Based on our analysis of comments received, we have made certain changes in the margin calculations. These changes are discussed in the relevant sections of the Decision Memo. Because the margin calculations for Habas and Kaptan have not changed from the preliminary results, the preliminary calculations placed on the records of these reviews are adopted as the final margin calculations.

Final Results of Review

We determine that the following weighted-average margin percentages exist for the period April 1, 2005, through March 31, 2006:

Manufacturer/Producer/Exporter | Margin Percentage
Colakoglu Metalurji A.S. and Colakoglu Dis Ticaret A.S. | 0.32 (de minimis)
Diler Demir Celik Endustrisi ve Ticaret A.S./ Yazici Demir Celik Sanayi ve Turizm Ticaret A.S./ Diler Dis Ticaret A.S. | 0.14 (de minimis)
Ekinciler Demir ve Celik Sanayi A.S./Ekinciler Dis Ticaret A.S. | 1.66
Habas Sinai ve Tibbi Gazlar Istithsal Endustrisi A.S. | 0.22 (de minimis)
Kaptan Demir Celik Endustrisi ve Ticaret A.S./ Kaptan Metal Dis Ticaret ve Nakliyat A.S. | 0.00
Kroman Celik Sanayii A.S./ Yucelboru Ihracat Ithalat ve Pazarlama A.S. | 0.00

Assessment

The Department shall determine, and CBP shall assess, antidumping duties on all appropriate entries. Pursuant to 19 CFR 351.212(b)(1), for all sales made by Colakoglu, Habas, Kaptan, and Kroman, as well as for certain sales made by Ekinciler, because we have the reported entered value of the U.S. sales, we have calculated importer-specific assessment rates based on the ratio of the total amount of antidumping duties calculated for the examined sales to the total entered value of those sales.

Moreover, for all sales by Diler, as well as for the remaining sales made by Ekinciler, these companies did not report entered values for the U.S. sales in question. Accordingly, we have calculated importer-specific assessment rates for each respondent's merchandise by aggregating the dumping margins calculated for its U.S. sales to each importer and dividing this amount by the total quantity of those sales. To determine whether the duty assessment rates were de minimis, in accordance with the requirement set forth in 19 CFR 351.106(c)(2), we calculated importer-specific ad valorem ratios based on the estimated entered value.

Pursuant to 19 CFR 351.106(c)(2), we will instruct CBP to liquidate without regard to antidumping duties any entries for which the assessment rate is de minimis (i.e., less than 0.50 percent). The Department intends to issue assessment instructions to CBP 15 days after the date of publication of these final results of review.

Because we have revoked the order with respect to subject merchandise produced and exported by Colakoglu, as well as with respect to subject merchandise produced and exported by Diler, we will instruct CBP to terminate the suspension of liquidation for exports of such merchandise entered, or withdrawn from warehouse, for consumption on or after April 1, 2006, and to refund all cash deposits collected.

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. This clarification will also apply to POR entries of subject merchandise produced by companies for which we are rescinding the review based on certifications of no shipments, because these companies certified that they made no POR shipments of subject merchandise for which they had knowledge of U.S. destination. In such instances, we will instruct CBP to liquidate unreviewed entries at the All-Others rate if there is no rate for the intermediate company(ies) involved in the transaction.

Cash Deposit Requirements

Further, the following deposit requirements will be effective for all shipments of rebar from Turkey (except shipments from Colakoglu and Diler, as noted above) entered, or withdrawn from warehouse, for consumption on or after the publication date of the final results of this administrative review, as provided for by section 751(a)(2)(C) of the Act: 1) the cash deposit rates for the reviewed companies will be the rates shown above, except if the rate is less than 0.50 percent, de minimis within the meaning of 19 CFR 351.106(c)(1), the cash deposit will be zero; 2) for merchandise produced by Kroman Celik Sanayii A.S. and exported by Yucelboru Ihracat Ithalat ve Pazarlama A.S., the combination cash deposit rate will be 0.00 percent; 3) for previously investigated companies not listed above, the cash deposit rate will continue to be the company-specific rate published for the most recent period; 4) if the exporter is not a firm covered in this review, or the less-than-fair-value (LTFV) investigation, but the manufacturer is, the cash deposit rate will be the rate established for the most recent period for the manufacturer of the merchandise; and 5) the cash deposit rate for all other manufacturers or exporters will continue to be 16.06 percent, the All Others rate established in the LTFV investigation. These deposit requirements, when imposed, shall remain in effect until further notice.

Notification to Importers

This notice serves as a preliminary reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act.

Dated: October 31, 2007.
Stephen J. Claeys,
Acting Assistant Secretary for Import Administration.

Appendix - Issues in Decision Memorandum

General Issues

1. Issues Related to the Turkish Government Competition Board's (the Competition Board's) Report

2. Date of Sale for Colakoglu Metalurji A.S. and Colakoglu Dis Ticaret A.S. (collectively “Colakoglu”) and Habas Sinai ve Tibbi Gazlar Istihsal Endustrisi A.S. (Habas)

3. Model Matching

4. Methodology for Determining Contemporaneous Sales in the Home Market

Company-Specific Issues

5. General and Administrative (G&A) Expenses for Colakoglu

6. Depreciation Expenses for Ekinciler Demir ve Celik Sanayi A.S. and Ekinciler Dis Ticaret A.S. (collectively “Ekinciler”)

7. G&A Expenses for Ekinciler

8. Subcontracted Rolling Costs for Habas

9. Affiliation Issue for Kaptan Metal Dis Ticaret ve Nakliyat A.S. and Kaptan Demir Celik Endustrisi ve Ticaret A.S. (collectively “Kaptan”)

10. Affiliated-Party Loading Services for Kaptan

[FR Doc. E7-21808 Filed 11-5-07; 8:45 am]

BILLING CODE 3510-DS-S